DEPARTMENT OF HOMELAND SECURITY

Coast Guard

[Docket No. USCG-2011-0043]

Lower Mississippi River Waterway Safety Advisory Committee; Vacancies

AGENCY: Coast Guard, DHS.

ACTION: Request for applications.

SUMMARY: The Coast Guard seeks applications for membership on the Lower Mississippi River Waterway Safety Advisory Committee. This Committee advises and makes recommendations to the Coast Guard on matters relating to safe transit of vessels and products to and from the ports on the Lower Mississippi River and related waterways.

DATES: Applicants should submit a cover letter and resume in time to reach the Designated Federal Officer on or before May 1, 2011.

ADDRESSES: Applicants should send his or her cover letter and resume to Captain E. M. Stanton, Designated Federal Officer, DFO, 200 Hendee Street, New Orleans, LA 70114. This notice, is available in our online docket, USCG-2011-0043, at http://www.regulations.gov. Send your completed application to the DFO at the street address above.

FOR FURTHER INFORMATION CONTACT: Chief Warrant Officer David Chapman, Assistant to DFO of Lower Mississippi River Waterway Safety Advisory Committee; telephone (504) 365-2282 or fax (504) 365-2287.

SUPPLEMENTARY INFORMATION: The Lower Mississippi River Waterway Safety Advisory Committee is a Federal advisory committee under the authority found in section 19 of the Coast Guard Authorization Act of 1991, (Pub. L. 102-241) as amended by section 621 of the Coast Guard Authorization Act of 2010, Public Law 111-281. The Lower Mississippi River Waterway Safety Advisory Committee advises the U.S. Coast Guard on matters relating to communications, surveillance, traffic management, anchorages, development and operation of the New Orleans Vessel Traffic Service, and other related topics dealing with navigation safety on the Lower Mississippi River as required by the U.S. Coast Guard.

The Committee expects to meet at least two times annually. It may also meet for extraordinary purposes with the approval of the DFO.

We will consider applications for 25 positions that expire or become vacant March 30, 2011. To be eligible, you should have experience regarding the transportation, equipment, and techniques that are used to ship cargo and to navigate vessels on the Lower Mississippi River and its connecting navigable waterways, including the Gulf of Mexico. The 25 positions available for application are broken down as follows:

1. Five members representing River Port authorities between Baton Rouge, Louisiana, and the Head of Passes of the Lower Mississippi River, of which one member shall be from the Port of St. Bernard and one member from the Port of Plaquemines.

2. Two members representing vessel owners domiciled in the state of Louisiana.

3. Two members representing organizations which operate harbor tugs or barge fleets in the geographical area covered by the committee.

4. Two members representing companies which transport cargo or passengers on the navigable waterways in the geographical area covered by the Committee.

5. Three members representing State Commissioned Pilot organizations, with one member each representing New Orleans-Baton Rouge Steamship Pilots Association, the Crescent River Port Pilots Association, and the Associated Branch Pilots Association.

6. Two at-large members who utilize water transportation facilities located in the geographical area covered by the committee.

7. Three members each one representing one of three categories: consumers, shippers, and importers-exporters that utilize vessels which utilize the navigable waterways covered by the committee.

8. Two members representing those licensed merchant mariners, other than pilots, who perform shipboard duties on those vessels which utilize navigable waterways covered by the committee.

9. One member representing an organization that serves in a consulting or advisory capacity to the maritime industry.

10. One member representing an environmental organization.

11. One member drawn from the general public.

12. One member representing the Associated Federal Pilots and Docking Masters of Louisiana.

Each member serves for a term of 2 years. Members may serve consecutive terms. All members serve at their own expense and receive no salary, reimbursement of travel expenses, or other compensation from the Federal Government. Registered lobbyists are not eligible to serve on Federal Advisory Committees. Registered lobbyists are lobbyists required to comply with provisions contained in the Lobbying Disclosure Act, Title 2, United States Code, Section 1603.

In support of the policy of the Coast Guard on gender and ethnic nondiscrimination, we encourage qualified men and women and members of all racial and ethnic groups to apply. The Coast Guard values diversity; all the different characteristics and attributes of persons that enhance the mission of the Coast Guard.

If you are selected as a non-representative member, or as a member who is drawn from the general public, you will be appointed and serve as a special Government employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official or the DAEO's designate may release a Confidential Financial Disclosure Report.

If you are interested in applying to become a member of the Committee, send a completed application to Captain E.M. Stanton, Designated Federal Officer (DFO) of Lower Mississippi River Waterway Safety Advisory Committee, 200 Hendee Street, New Orleans, LA 70114. Send the application in time for it to be received by the DFO on or before 1, May 2011. A copy of the application form is available in the docket for this notice. To visit our online docket, go to http://www.regulations.gov, enter the docket number for this notice (USCG-2011-0043) in the Search box, and click “Go >>.” Please do not post your application on this site.

Dated: February 28, 2011.
Mary Landry,
Rear Admiral, U.S. Coast Guard, Commander, Eighth Coast Guard District.

[FR Doc. 2011-5669 Filed 3-10-11; 8:45 am]

BILLING CODE 9110-04-P